DEPARTMENT OF TRANSPORTATION

Federal Aviation Administration

Notice of Opportunity for Public Comment on Proposed Land Use Changes of Surplus Property at Everett-Stewart Regional Airport, Union City, Tennessee

AGENCY: Federal Aviation Administration, DOT.

ACTION: Request for public comments.

SUMMARY: Notice is being given that the FAA is considering a request from Obion County, Tennessee to change 507.07± acres of airport property from Aeronautical Use to Non-Aeronautical Use for a Solar Facility at Everett-Stewart Regional Airport. The solar facility is being constructed on Surplus Property land not required for aviation use. The land has been designed for non-aeronautical use on the Airport Layout Plan. The County will have a land lease agreement with the solar company that will generate non-aeronautical revenue to be deposited in the airport operation and maintenance account.

DATES: Comments must be received on or before November 14, 2022.

ADDRESSES: The public may send comments using the following methods:

• Federal eRulemaking Portal: Go to http://www.regulations.gov, and follow the instructions on providing comments.

• Fax: 901-322-8195.

• Mail: L. Bernard Green, Community Planner, 2600 Thousand Oaks Blvd., Suite 2250 Memphis, TN 38118.

• Hand Delivery: Deliver to mail address above between 8 a.m. and 5 p.m. Monday through Friday, excluding Federal holidays.

In addition, one copy of any comments submitted to the FAA must be mailed or delivered to Obion County, Tennessee, Attn: Mayor Benny McGuire, Obion County, Tennessee 316 S. Third Street Union City, TN 28281.

Interested persons may inspect the request and supporting documents by contacting the FAA at the address listed under FOR FURTHER INFORMATION CONTACT.

FOR FURTHER INFORMATION CONTACT: L. Bernard Green, 2600 Thousand Oaks Blvd., Suite 2250 Memphis, TN 38118, 901-322-8187. The land release request may be reviewed in person at this same location.

Issued in Memphis, Tennessee on October 3, 2022.
Tommy L. Dupree,
Manager, Memphis Airports District Office, Southern Region.

[FR Doc. 2022-22125 Filed 10-11-22; 8:45 am]

BILLING CODE 4910-13-P